DEPARTMENT OF ENERGY

Federal Energy Regulatory Commission

[Docket No. RP05-289-001]

El Paso Natural Gas Company; Notice of Compliance Filing

June 15, 2005.

Take notice that on June 10, 2005, El Paso Natural Gas Company (EPNG) as part of its FERC Gas Tariff, Second Revised Volume No. 1-A, filed with the Commission the following tariff sheets, with an effective date of May 27, 2005:

Substitute Third Revised Sheet No. 259

Substitute Third Revised Sheet No. 274

EPNG states that the filing is being made in compliance with the Commission's order issued May 26, 2005 in Docket No. RP05-289-000.

EPNG states that it is filing revised tariff sheets to comply with the order issued in this proceeding regarding its electronic execution of contracts filing.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please e-mail FERCOnlineSupport@ferc.gov, or call (866) 208-3676 (toll free). For TTY, call (202) 502-8659.

Magalie R. Salas,
Secretary.

[FR Doc. E5-3251 Filed 6-21-05; 8:45 am]

BILLING CODE 6717-01-P